COMMISSION ON CIVIL RIGHTS

Agenda and Notice of Public Meeting of the District of Columbia, Maryland and Virginia Advisory Committees

Notice is hereby given, pursuant to the provisions of the rules and regulations of the U.S. Commission on Civil Rights that a meeting of the District of Columbia, Maryland and Virginia Advisory Committees to the Commission will convene at 9:30 a.m. and recess at 6 p.m. on April 24, 2002; will reconvene at 9:30 a.m. and adjourn at 6 p.m. on April 25, 2002, at the Mason District Government Center, 6507 Columbia Pike, Annandale, Virginia 22003. The subcommittees, also known as the Inter-SAC Committee, will hold a community forum on civil rights focusing on civil rights concerns of Arab, Muslim, Sikh and South Asian communities in the Washington metropolitan area in the aftermath of 9/11 tragedies.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, April 2, 2002.
Ivy L. Davis,
Chief, Regional Programs Coordination Unit.

[FR Doc. 02-8466 Filed 4-8-02; 8:45 am]

BILLING CODE 6335-01-P